DEPARTMENT OF DEFENSE

Department of the Army

[Docket ID: USA-2015-HQ-0050]

Proposed Collection: Comment Request

AGENCY: Warrior Transition Command, U.S. Army, DoD.

ACTION: Notice.

SUMMARY: In compliance with the Paperwork Reduction Act of 1995, the Office of Warrior Transition Command announces a proposed public information collection and seeks public comment on the provision thereof. Comments are invited on: (a) Whether the proposed collection of information is necessary for the proper performance of the functions of the agency, including whether the information shall have the practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 29, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to: LTC Luis A. Fregoso, Warrior Transition Command, 200 Stovall Street, Suite 7S37, Alexandria VA 22332-5000 or luis.a.fregoso3.mil@mail.mil.

SUPPLEMENTARY INFORMATION: The following information collection requirement is necessary to plan and execute the 2016 Warrior Games. Created in 2010, the Warrior Games showcases the resilient spirit of today's wounded, ill or injured service members from all branches of the military. Wounded, ill and/or injured athletes from the Army, Marine Corps, Navy, Coast Guard, Air Force and Special Operations Command compete in eight sports (archery, cycling, shooting, swimming, track, field, sitting volleyball and wheelchair basketball) in a display of courage and resilience. The 2016 Warrior Games (WG16), to be held June 15 through June 21, 2016 at the U.S. Military Academy (USMA) in West Point, New York, is being organized by the Warrior Transition Command (WTC) of the U.S. Army.

Title; Associated Form; and OMB Number: Warrior Games Registration Forms; OMB Control Number 0702-XXXX.

Needs and Uses: The information collected is necessary in order to plan and manage the 2016 Warrior Games.

Affected Public: Individuals.

Annual Burden Hours: 25.38 hours.

Number of Respondents: 245.

Responses per Respondent: 1.

Annual Responses: 245.

Average Burden per Response: 7 minutes.

Frequency: On Occasion.

Respondents are individuals that will be participating in the 2016 Warrior Games as: Athletes, non-medical assistants, coaches, volunteers, family members, distinguished visitors and members of the media. All registration forms will be accessed, completed and submitted online.

Dated: December 28, 2015.
Aaron Siegel,
Alternate OSD Federal Register, Liaison Officer, Department of Defense.

[FR Doc. 2015-32952 Filed 12-30-15; 8:45 am]

BILLING CODE 5001-06-P